DEPARTMENT OF EDUCATION

National Advisory Committee on Institutional Quality and Integrity: Notice of Membership

AGENCY: National Advisory Committee on Institutional Quality and Integrity, Office of Postsecondary Education, Department of Education.

What is the purpose of this notice?

The purpose of this notice is to list the members of the National Advisory Committee on Institutional Quality and Integrity (NACIQI). This notice is required under Section 114(e)(1) of the Higher Education Act (HEA) of 1965, as amended.

What is the role of NACIQI?

The NACIQI is established under Section 114 of the HEA, and is composed of 18 members appointed—

(A) On the basis of the individuals' experience, integrity, impartiality, and good judgment;

(B) From among individuals who are representatives of, or knowledgeable concerning, education and training beyond secondary education, representing all sectors and types of institutions of higher education; and,

(C) On the basis of the individuals' technical qualifications, professional standing, and demonstrated knowledge in the fields of accreditation and administration of higher education.

The NACIQI meets at least twice a year and provides recommendations to the Secretary of Education pertaining to:

• The establishment and enforcement of the standards of accrediting agencies or associations under subpart 2 of part H of Title IV, HEA.

• The recognition of specific accrediting agencies or associations.

• The preparation and publication of the list of nationally recognized accrediting agencies and associations.

• The eligibility and certification process for institutions of higher education under Title IV of the HEA.

• The relationship between (1) accreditation of institutions of higher education and the certification and eligibility of such institutions, and (2) State licensing responsibilities with respect to such institutions.

• Any other advisory functions relating to accreditation and institutional eligibility that the Secretary may prescribe by regulation.

What are the terms of office for the Committee members?

The term of office of each member is six years, except that the terms of office for the initial members of the Committee shall be three years for members appointed by the Secretary; four years for members appointed by the Speaker of the House of Representatives; and six years for members appointed by the President Pro Tempore of the Senate. Any member appointed to fill a vacancy occurring prior to the expiration of the term for which the member's predecessor was appointed is appointed for the remainder of the term.

Who are the current members of the Committee?

The current members of the NACIQI are:

Members Appointed By Secretary of Education Arne Duncan With Terms Expiring September 30, 2013

• Jamienne S. Studley, J.D., NACIQI Chair, President and Chief Executive Officer (CEO), Public Advocates, Inc., San Francisco, California.

• Susan D. Phillips, Ph.D., NACIQI Reauthorization Subcommittee Chair, Provost and Vice President for Academic Affairs, The State University of New York at Albany, Albany, New York.

• Earl Lewis, Ph.D., Provost and Executive Vice President for Academic Affairs, Emory University, Atlanta, Georgia.

• Beter-Aron Shimeles, Student Member, Bay Area Fellow for Peer Health Exchange, Occidental College, Los Angeles, California.

• Frank H. Wu, J.D., Chancellor and Dean, University of California, Hastings College of the Law, San Francisco, California.

• Federico Zaragoza, Ph.D., Vice Chancellor of Economic and Workforce Development, Alamo Community College District, San Antonio, Texas.

Members Appointed by Speaker of the House of Representatives With Terms Expiring September 30, 2014

• Arthur J. Rothkopf, J.D., NACIQI Vice-Chair, President Emeritus, Lafayette College, Easton, Pennsylvania. (Mr. Rothkopf resides in Washington, DC).

• Arthur Keiser, Ph.D., Chancellor, Keiser University, Fort Lauderdale, Florida.

• William E. Kirwan, Ph.D., Chancellor, University System of Maryland, College Park, Maryland.

• William Pepicello, Ph.D., President, University of Phoenix, Phoenix, Arizona.

• Carolyn G. Williams, Ph.D., President, City University of New York Bronx Community College, Bronx, New York.

• George T. French, Jr., Ph.D., President, Miles College, Fairfield, Alabama.

Members Appointed by President Pro Tempore of the Senate With Terms Expiring September 30, 2016

• Bruce Cole, Ph.D., Senior Fellow, Hudson Institute, Washington, DC.

• Wilfred McClay, Ph.D., SunTrust Bank Chair of Excellence in Humanities, University of Tennessee at Chattanooga, Chattanooga, Tennessee.

• Anne D. Neal, J.D., President, American Council of Trustees and Alumni, Washington, DC.

• Cameron C. Staples, J.D., President and Chief Executive Officer (CEO), New England Association of Schools and Colleges, Bedford, Massachusetts.

• Larry N. Vanderhoef, Ph.D., Chancellor Emeritus, University of California-Davis, Davis, California.

• Vacancy.

How can I obtain additional information?

If you have any specific questions about the NACIQI, please contact Kay Gilcher, Director, Accreditation Group, telephone (202) 502-7693, fax (202) 219-7005, email: Kay.Gilcher@ed.gov, between 9 a.m. and 5 p.m., Monday through Friday.

Electronic Access to This Document: The official version of this document is the document published in the Federal Register. Free Internet access to the official edition of the Federal Register and the Code of Federal Regulations is available via the Federal Digital System at http://www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: http://www.federalregister.gov. Specifically, through the advanced search feature at this site, you can limit your search to documents published by the Department.

Dated: December 20, 2011.
Arne Duncan,
Secretary of Education.

[FR Doc. 2011-33113 Filed 12-23-11; 8:45 am]

BILLING CODE 4000-01-P